DEPARTMENT OF TRANSPORTATION

Federal Aviation Administration

14 CFR Part 71

[Docket No. FAA-2021-0793; Airspace Docket No. 21-AWP-59]

RIN 2120-AA66

Amendment of Class D and Class E Airspace; Grand Canyon National Park Airport, AZ

AGENCY: Federal Aviation Administration (FAA), Department of Transportation (DOT).

ACTION: Final rule.

SUMMARY: This action modifies the Class E airspace designated as an extension to a Class D or Class E surface area. It also modifies the Class E airspace extending upward from 700 feet above the surface, and removes the Class E airspace extending upward from 1,200 feet above the surface at Grand Canyon National Park Airport, AZ. Additionally, this action makes administrative changes to the existing Class D and Class E legal descriptions. These actions will ensure the safety and management of instrument flight rules (IFR) and visual flight rules (VFR) operations at the airport.

DATES: Effective 0901 UTC, December 29, 2022. The Director of the Federal Register approves this incorporation by reference under 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D and Class E airspace at Grand Canyon National Park Airport, Grand Canyon, AZ, to support VFR and IFR operations at the airport.

History

The FAA published a notice of proposed rulemaking (NPRM) in the Federal Register for FAA-2021-0793 (87 FR 39022; June 30, 2022) to modify the Class E airspace designated as an extension to a Class D or Class E surface area, modify the Class E airspace extending upward from 700 feet above the surface, and remove the Class E airspace extending upward from 1,200 feet above the surface at Grand Canyon National Park Airport, AZ. Additionally, the NPRM proposed administrative changes to the existing Class D and Class E legal descriptions. Interested parties were invited to participate in this rulemaking effort by submitting written comments on the proposal to the FAA. No comments were received.

Class D, Class E4, and Class E5 airspace designations are published in paragraphs 5000, 6004, and 6005, respectively, of FAA Order JO 7400.11G, dated August 19, 2022, and effective September 15, 2022, which is incorporated by reference in 14 CFR 71.1. The Class D and Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

The FAA is amending 14 CFR part 71 to modify the Class E airspace designated as an extension to a Class D or Class E surface area, modify the Class E airspace extending upward from 700 feet above the surface, and remove the Class E airspace extending upward from 1,200 feet above the surface at Grand Canyon National Park Airport, AZ. Additionally, the FAA is making administrative changes to the Class D and Class E airspace legal descriptions.

The Class E airspace designated as an extension to a Class D or Class E surface area is reduced. The VOR RWY 3 approach requires a containment width of 4.8 miles, and additional airspace is not needed.

The Class E airspace extending upward from 700 feet above the surface is increased a half-mile in size to ensure proper depiction on a VFR sectional chart.

The Class E airspace extending upward from 1,200 feet above the surface is removed. This area is contained within the Los Angeles Class E airspace designated as a domestic en route airspace area, and duplication is not necessary.

Lastly, the FAA is making several administrative modifications to the airport's legal descriptions. The airport's geographic coordinates are updated to match the FAA's database. The Class D and Class E4 legal descriptions are updated to replace the outdated use of the phrases “Notice to Airmen” and “Airport/Facility Directory.” These phrases are amended to read “Notice to Air Missions” and “Chart Supplement,” respectively, to align with current FAA publication nomenclature. Lastly, all navigational aids (NAVAID) are removed from the Class E4 and E5 legal description text headers, as they are not required to describe the airspace areas, and removal of the NAVAIDs simplifies the legal descriptions.

Class D, E4, and E5 airspace designations are published in paragraphs 5000, 6004, and 6005, respectively, of FAA Order JO 7400.11G, dated August 19, 2022, and effective September 15, 2022, which is incorporated by reference in 14 CFR 71.1. The Class D and Class E airspace designations listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

AWP AZ D Grand Canyon, AZ [Amended]

Grand Canyon National Park Airport, AZ

(Lat. 35°57′09″N, long. 112°08′49″W)

That airspace extending upward from the surface to and including 9,100 feet MSL within a 4.3-mile radius of the airport. This Class D airspace area is effective during the specific dates and times established in advance by a Notice to Air Missions. The effective date and time will thereafter be continuously published in the Chart Supplement.

Paragraph 6004 Class E Airspace Areas Designated as an Extension to a Class D or Class E Surface Area.

* * * * *

AWP AZ E4 Grand Canyon, AZ [Amended]

Grand Canyon National Park Airport, AZ

(Lat. 35°57′09″N, long. 112°08′49″W)

That airspace extending upward from the surface within 2.4 miles each side of the 213° bearing from the airport, extending from the airport's 4.3-mile radius to 6.6 miles southwest of the airport. This Class E airspace area is effective during the specific dates and times established in advance by a Notice to Air Missions. The effective date and time will thereafter be continuously published in the Chart Supplement.

Paragraph 6005 Class E Airspace Areas Extending Upward From 700 Feet or More Above the Surface of the Earth.

* * * * *

AWP AZ E5 Grand Canyon, AZ [Amended]

Grand Canyon National Park Airport, AZ

(Lat. 35°57′09″N, long. 112°08′49″W)

That airspace extending upward from 700 feet above the surface within a 4.8-mile radius of the airport and within 2.9 miles each side of the 213° bearing from the airport extending from the 4.8-mile radius to 7.1 miles southwest of the airport.

Issued in Des Moines, Washington, on September 21, 2022.
B.G. Chew,
Group Manager, Operations Support Group, Western Service Center.

[FR Doc. 2022-21345 Filed 9-30-22; 8:45 am]

BILLING CODE 4910-13-P